DEPARTMENT OF HEALTH AND HUMAN SERVICES

Indian Health Service

Health Professions Recruitment Program for Indians

AGENCY: Indian Health Service, HHS.

ACTION: Notice of competitive grant applications for the Health Professions Recruitment Program for Indians.

SUMMARY: The Indian Health Service (IHS) announces that competitive grant applications are now being accepted for the Health Professions Recruitment Program for Indians established by section 102 of the Indian Health Care Improvement Act of 1976 (25 U.S.C. 1612), as amended by Pub. L. 102-573. There will be only one funding cycle during fiscal year (FY) 2002. This program is described at section 93.970 in the Catalog of Federal Domestic Assistance and is governed by regulations at 42 CFR 36.310 et seq. Costs will be determined in accordance with OMB Circulars A-21, A-87, and A-122 (cost principles for different types of applicant organizations); and 45 CFR part 74 or 45 CFR part 92 (as applicable). Executive Order 12372 requiring intergovernmental review is not applicable to this program. This program is not subject to the Public Health System Reporting requirements.

The Department of Health and Human Services (DHHS) is committed to achieving the health promotion and disease prevention objectives of “Healthy People 2010,” a DHHS-led activity for setting priority areas. This program announcement is related to the priority area of Educational and Community-based programs. Potential applicants may obtain a copy of Healthy People 2010, Summary report No. 017-001-00549-5, or via CD-ROM, Stock No. 017-001-00549-5, through the Superintendent of Documents, Government Printing Office, PO Box 371954, Pittsburgh, PA 15250-7945, (202) 512-1800. You may access this information via the Internet at the following Web site: www.health.gov/healthypeople/publication

A. Smoke Free Workplace

IHS strongly encourages all grant recipients to provide a smoke-free workplace and promote the non-use of all tobacco products. This is consistent with the DHHS mission to protect and advance the physical and mental health of the American people.

DATES: A. Application Receipt Date—An original and two copies of the completed grant application must be submitted with all required documentation to the Grants Management Branch, Division of Acquisition and Grants Management, 801 Thompson Avenue, Suite 120, Rockville, Maryland 20852, by close of business April 30, 2002.

Applications shall be considered as meeting the deadline if they are either: (1) Received on or before the deadline with hand carried applications received by close of business 5 p.m.; or (2) postmarked on or before the deadline and received in time to be reviewed along with all other timely applications. A legibly dated receipt from a commercial carrier or the U.S. Postal Service will be accepted in lieu of a postmark. Private metered postmarks will not be accepted as proof of timely mailing. Late applications not accepted for processing will be returned to the applicant and will not be considered for funding.

B. Additional Dates

1. Application Review: May 21-23, 2002.

2. Applicants Notified of Results: on or about June 14, 2002 (approved, recommended for approval but not funded, or disapproved).

3. Anticipated Start Date: August 1, 2002.

FOR FURTHER INFORMATION CONTACT: For program information, contact Ms. Jacqueline K. Santiago, Chief, Loan Repayment Program, 801 Thompson Avenue, Suite 120, Rockville, Maryland 20852, (301) 443-3396. For grants application and business management information, contact Mrs. Crystal Ferguson, Grants Management Officer, Grants Management Branch, Division of Acquisition and Grants Management, Indian Health Service, 801 Thompson Avenue, Suite 120, Rockville, Maryland 20852, (301) 443-5204. (The telephone numbers are not toll-free numbers).

SUPPLEMENTARY INFORMATION: This announcement provides information on the general program purpose, eligibility and preference, program objectives, required affiliation, fund availability and period of support, type of program activities considered for support, and application procedures for FY 2002.

A. General Program Purpose

The purpose of the Health Professions Recruitment program is to increase the number of American Indians and Alaska Natives entering the health professions and to assure an adequate supply of health professionals to the IHS, Indian Tribes, Tribal organizations, and urban Indian organizations involved in the provision of health care to Indian people.

B. Eligibility and Preference

The following organizations are eligible with preference given in the order of priority to:

1. Indian tribes,

2. Indian tribal organizations,

3. urban Indian organizations and other Indian health organizations; and

4. public and other nonprofit private health or educational entities.

C. Program Objectives

Each proposal must address the following four objectives to be considered for funding:

1. Identifying Indians with a potential for education or training in the health professions (excluding nursing—The Nursing profession is excluded because the IHS Nursing Recruitment Grant Program provides funding to increase the number of nurses who deliver health care services to Indians) and encouraging and assisting them:

(A) To enroll in courses of study in such health professions; or

(B) If they are not qualified to enroll in any such courses of study, to undertake such postsecondary education or training as may be required to qualify them for enrollment;

2. Publicizing existing sources of financial aid available to Indians enrolled in any courses of study referred to in paragraph (1) of this subsection or who are undertaking training necessary to qualify them to enroll in any such school.

3. Establishing other programs which the Secretary determines will enhance and facilitate the enrollment of Indians in, and the subsequent pursuit and completion by them of courses of study referred to in paragraph (1) of this section. To delivery the necessary student support systems to help to ensure that students who are recruited successfully complete their academic training. Support services may include:

A. Providing career counseling and academic advice;

B. Assisting students to identify academic deficiencies;

C. Assisting students to locate financial aid; monitoring students to identify possible problems;

D. Assisting with the determination of, need for, and location of tutorial services; and

E. Other related activities, which will help to retain students in school.

4. To work in close cooperation with the IHS, Tribes, Tribal organizations and urban Indian organizations, in locating and identifying non-academic period placement opportunities and practicum experiences, i.e., the IHS Extern Program authorized under section 105 of Pub. L. 94-437, as amended; assisting student with individual development plans in conjunction with identified placement opportunities; monitoring students to identify and evaluate possible problems; and monitoring and evaluating all placement and practicum experiences within the IHS to further develop and modify the program.

D. Required Affiliation

If the applicant is an Indian Tribe, Tribal organization, urban organization or other Indian health organization, or a public or nonprofit private health organization, the applicant must submit a letter of support from at least one school accredited for the health professions program, (excluding nursing). This letter must document linkage with that educational organization.

When the target population of a proposed project includes a particular Indian Tribe or Tribes, an official document, i.e., a letter of support or Tribal resolution must be submitted indicating that the Tribe or Tribes will cooperate with the applicant.

E. Fund Availability and Period of Support

It is anticipated that approximately $250,000 will be available for approximately 3 new grants. The average funding level for projects in FY 2001 was $83,000. The anticipated start date for selected projects will be August 1, 2002. Pursuant to 42 Code of Federal Regulations 36.313(c), the project period “will usually be for one to two years.” However, under this notice, projects will be awarded for a budget term of 12 months, with a maximum project period of up to three (3) years. A maximum project period of three (3) years is required so that key staff, such as project directors, may be recruited, without the financial and career uncertainty of a one or two year budget period and to enable the projects to carry out their recruitment activities without the added activity of applying for a grant every one or two years. Grant funding levels include both direct and indirect costs. Funding of succeeding years will be based on the FY 2002 level, continuing need for the program, satisfactory performance, and the availability of appropriations in those years.

F. Type of Program Activities Considered for Support

Funds are available to develop grant programs to locate and recruit students with potential for health professions degree programs (excluding nursing), and to provide support services to Indian students who are recruited.

G. Application Process

An IHS Recruitment Grant Application Kit, including the required PHS 5161-1 (Rev. 5/96) (OMB Approval No. 0920-0428) and the U.S. Government Standard forms (SF-424, SF-424A, and SF-424B), may be obtained from the Grants Management Branch, Division of Acquisition and Grants Management, Indian Health Service, 801 Thompson Avenue, Suite 120, Rockville, Maryland 20852, telephone (301) 443-5204. (This is not a toll free number.)

H. Grant Application Requirements

All applications must be single-spaced, typewritten, and consecutively numbered pages using black type not smaller than 12 characters per one inch, with conventional one inch border margins, on only one side of standard size 8½ x 11 paper that can be photocopied. The application narrative (not including abstract, Tribal resolutions or letters of support, standard forms, table of contents or the appendix) must not exceed 20 typed pages as described above. All applications must include the following in the order presented:

—Standard Form 424, Application for Federal Assistance

—Standard Form 424A, Budget Information—Non-Construction Programs, (pages 1 and 2)

—Standard Form 424B, Assurances—Non-Construction Programs (front and back)

—Certifications, PHS 5161-1, (page 17-19)

—Checklist, PHS 5161-1, (pages 25-26), NOTE: Each standard form and the check list is contained in the PHS Grant Application, Form PHS 5161-1 (Revised 5/96)

—Project Abstract (one page)

—Table of Contents

—Program Narrative to include:

—Introduction and Potential Effectiveness of Project

—Project Administration

—Accessibility to Target Population

—Relationship of Objectives to Manpower Deficiencies

—Project Budget, including multi-year narratives, and

—Budget Justifications

—Appendix to include:

—Tribal Resolution(s) or Letters of Support

—Biographical sketches for key personnel or position descriptions if position is vacant

—Organizational chart

—Workplan

—Completed IHS Application Checklist

—Application Receipt Card, PHS 3038-1 Rev. 5-90.

I. Application Instructions

The following instructions for preparing the application narrative also constitute the standards (criteria or basis for evaluation) for reviewing and scoring the application. Weights assigned each section are noted in parenthesis.

Abstract—An abstract may not exceed one typewritten page. The abstract should clearly present the application in summary form, from a “who-what-when-where-how-cost” point of view so that reviewers see how the multiple parts of the application fit together to form a coherent whole.

Table of Contents—Provide a one page typewritten table of contents.

J. Narrative

1. Introduction and Potential Effectiveness (30 pts.)

a. Describe your legal status and organization.

b. State specific objectives of the project, which are measurable in terms of being quantified, significant to the needs of Indian people, logical, complete and consistent with the purpose of section 102.

c. Describe briefly what the project intends to accomplish. Identify the expected results, benefits, and outcomes or products to be derived from each objective of the project.

d. Provide a project specific work plan (milestone chart) which lists each objective, the tasks to be conducted in order to reach the objective, and the timeframe needed to accomplish each task. Timeframes should be projected in a realistic manner to assure that the scope of work can be completed within each budget period. (a work plan format is provided.)

e. In the case of proposed projects for identification of Indians with a potential for education or training in the health professions (excluding nursing), include a method for assessing the potential of interested Indians for undertaking necessary education or training in such health professions.

f. State clearly the criteria by which the project's progress will be evaluated and by which the success of the project will be determined.

g. Explain the methodology that will be used to determine if the needs, goals, and objectives identified and discussed in the application are being met and if the results and benefits identified are being achieved.

h. Identify who will perform the evaluation and when.

2. Project Administration (20 pts.)

a. Provide an organizational chart (include in appendix). Describe the administrative, managerial and organizational arrangements and the facilities and resources to be utilized to conduct the proposed project.

b. Provide the name and qualifications of the project director or other individuals responsible for the conduct of the project; the qualifications of the principal staff carrying out the project; and a description of the manner in which the applicant's staff is or will be organized and supervised to carry out the proposed project. Include biographical sketches of key personnel (or job descriptions if the position is vacant) (include in appendix).

c. Describe any prior experience in administering similar projects.

d. Discuss the commitment of the organization, i.e., although not required, the level of non-Federal support. List the intended financial participation, if any, of the applicant in the proposed project specifying the type of contributions such as cash or services, loans of full or part-time staff, equipment, space, materials or facilities or other contributions.

3. Accessibility to Target Population (20 pts.)

a. Describe the current and proposed participation of Indians (if any) in your organization.

b. Identify the target Indian population to be served by your proposed project and the relationship of your organization to that population.

c. Describe the methodology to be used to access the target population.

4. Relationship of Objectives to Health Professional Deficiencies (20 pts.)

a. Provide data and supporting documentation to address the relationship of objectives to health professional deficiencies.

b. Indicate the number of potential Indian students to be contacted and recruited as well as potential cost per student recruited. Those projects that have the potential to serve a greater number of Indians will be given first consideration.

5. Soundness of Fiscal Plan (10 pts.)

a. Clearly define the budget. Provide a justification and detailed breakdown of the funding by category for the first year of the project. Information on the project director and project staff should include salaries and percentage of time assigned to the grant. List equipment purchases necessary for the conduct of the project.

b. The available funding level of $250,000 is inclusive of both direct and indirect costs. Pursuant to Public Health Service Grants Policy (DHHS Publication No. (OASH) 94-50,000 (Rev.) April 1, 1994), a ‘training grant’ includes a grant for “training or other educational purposes”, and the Department of Health and Human Services considers this grant activity as having an educational purpose. Because this project has an educational purpose, and, therefore, is for a training grant, the Department of Health and Human Services' policy limiting reimbursement of indirect costs to lesser of the applicant's actual indirect costs or 8 percent of total direct cost (exclusive of tuition and related fees and expenditures for equipment) is applicable. This limitation applies to all institutions of higher education other than agencies of State and local government.

c. Projects requiring additional years must include a program narrative and categorical budget and justification for each additional year of funding requested (this is not considered part of the 20-page narrative).

Appendix—to include:

a. Tribal Resolution(s) or Letters of Support

b. Biographical sketches of key personnel or position descriptions if position is vacant

c. Organizational chart

d. Workplan

e. Completed IHS Application Checklist

f. Application Receipt Card, PHS 3038-1 Rev. 5-90.

K. Reporting

1. Progress Report—Program progress reports shall be required semiannually. These reports will include a brief description of a comparison of actual accomplishments to the goals established for the period, reasons for slippage and other pertinent information as required. A final report is due 90 days after expiration of the budget/project period.

2. Financial Status Report—Semiannually financial status reports will be submitted 30 days after the end of the half year. A final financial status report is due 90 days after expiration of the budget/project period. Standard Form 269 (long form) will be used for financial reporting.

L. Grant Administration Requirements

Grants are administered in accordance with the following documents:

1. 45 CFR part 92, HHS, Uniform Administrative Requirements for Grants and Cooperative Agreements to State and Local Governments, or 45 CFR part 74, Uniform Administrative Requirements for Awards and Subawards to Institutions of Higher Education, Hospitals, Other Nonprofit Organizations, and Commercial Organization; and Certain Grants and Agreements with States, Local Governments and Indian Tribal Governments.

2. PHS Grants Policy Statement, and

3. Appropriate Cost Principles: OMB Circular A-21, Educational Institutions, OMB Circular A-87, State and Local Governments, and OMB Circular A-122, Non-profit Organizations.

M. Objective Review Process

An Objective Review Committee (ORC) in accordance with IHS objective review procedures will review applications meeting eligibility requirements that are complete, responsive, and conform to this program announcement. The objective review process ensures a nationwide competition for limited funding. The ORC will be comprised of IHS (40% or less) and other federal or non-federal individuals (60% or more) with appropriate expertise. The ORC will review each application against established criteria. Based upon the evaluation criteria, the reviewers will assign a numerical score to each application, which will be used in making the final funding decision. Approved applications scoring less than 60 points will not be considered for funding.

N. Results of the Review

The results of the objective review are forwarded to the Director, Office of Management Support (OMS), for final review and approval. The Director, OMS, will also consider the recommendations from the Acting Director, Division of Health Professions Support, and the Grants Management Branch. Applicants are notified in writing on or about July 7, 2002. A Notice of Grant Award will be issued to successful applicants. Unsuccessful applicants are notified in writing of disapproval. A brief explanation of the reasons the application was not approved is provided along with the name of an IHS official to contact if more information is desired.

Dated: January 22, 2002.
Michael H. Trujillo,
Assistant Surgeon General, Director, Indian Health Service.

[FR Doc. 02-2090 Filed 1-28-02; 8:45 am]

BILLING CODE 4160-16-M